FEDERAL MARITIME COMMISSION

[Docket No. 23-01]

Samsung Electronics America, Inc., Complainant v. SM Line Corporation, Respondent; NOTICE OF FILING OF COMPLAINT AND ASSIGNMENT; Served: April 19, 2023

Notice is given that a complaint has been filed with the Federal Maritime Commission (Commission) by Samsung Electronics America, Inc., hereinafter “Complainant,” against SM Line Corporation, (hereinafter “Respondent.”) Complainant is a corporation organized and existing under the laws of the State of New York, with a principal place of business in New Jersey. Complainant identifies SM Line Corporation as a vessel-operating common carrier with its corporate office in Korea, and its principal corporate office in Arizona.

Complainant alleges that Respondent violated 46 U.S.C. 41102(c), 41104(a)(14), and 41104(a)(15) and 46 CFR 545.4 and 545.5 regarding its practices and the billing and payment of costs and charges on shipments of cargo, including demurrage, detention, rail storage, and other inland transportation-related costs and charges. An answer to the complaint is due to be filed with the Commission within twenty-five (25) days after the date of service. The full text of the complaint can be found in the Commission's Electronic Reading Room at https://www2.fmc.gov/readingroom/proceeding/23-01/.

This proceeding has been assigned to Office of Administrative Law Judges. The initial decision of the presiding officer in this proceeding shall be issued by April 19, 2024, and the final decision of the Commission shall be issued by November 4, 2024.

William Cody,
Secretary.

[FR Doc. 2023-09272 Filed 5-1-23; 8:45 am]

BILLING CODE P